DEPARTMENT OF AGRICULTURE

Forest Service

Snohomish County Resource Advisory Committee (RAC)

AGENCY: Forest Service, USDA.

ACTION: Notice of meetings.

SUMMARY: The Snohomish County Resource Advisory Committee (RAC) will meet at the Snohomish County Administration Building in Everett, Washington to review and recommend Title II projects for FY 2007.

DATES: Tuesday, April 11, 2006 (if needed) and Thursday, April 20, 2006. Both meetings will be from 9 a.m. until 4 p.m.

ADDRESSES: Snohomish County Administration Building, Willis Tucker Conference Room (third floor), 3000 Rockefeller Ave. in Everett, WA 98201.

FOR FURTHER INFORMATION CONTACT: Barbara Busse, Designated Federal Official, USDA Forest Service, Mt. Baker-Snoqualmie National Forest, 74920 NE. Stevens Pass Highway, P.O. Box 305, Skykomish, WA 98288 (phone: 360-677-2414).

SUPPLEMENTARY INFORMATION: All Snohomish County RAC meetings are open to the public. Interested citizens are encouraged to attend. The Snohomish County RAC reviews project proposals, and makes recommendations to the Forest Supervisor for projects to be funded by Title II dollars, under Public Law 106-393, H.R. 2389, The Secure Rural Schools and Community Self-Determination Act of 2000, also called the “Payments to States” Act.

Dated: March 21, 2006.
Allen Gibbs,
Acting Designated Federal Official.

[FR Doc. 06-2956 Filed 3-27-06; 8:45 am]

BILLING CODE 3410-11-M